INTERNATIONAL TRADE COMMISSION

[Investigation No. 731-TA-702 (Second Review)]

Ferrovanadium and Nitrided Vanadium From Russia

Determination

On the basis of the record ¹ developed in the subject five-year review, the United States International Trade Commission (Commission) determines, pursuant to section 751(c) of the Tariff Act of 1930 (19 U.S.C. 1675(c)) (the Act), that revocation of the antidumping duty order on ferrovanadium and nitrided vanadium from Russia would be likely to lead to continuation or recurrence of material injury to an industry in the United States within a reasonably foreseeable time.

¹ The record is defined in sec. 207.2(f) of the Commission's Rules of Practice and Procedure (19 CFR 207.2(f)).

Background

The Commission instituted this review on May 1, 2006 (71 FR 25609) and determined on August 4, 2006 that it would conduct an expedited review (71 FR 47523, August 17, 2006).

The Commission transmitted its determination in this review to the Secretary of Commerce on September 28, 2006. The views of the Commission are contained in USITC Publication 3887 (September 2006), entitled Ferrovanadium and Nitrided Vanadium from Russia: Investigation No. 731-TA-702 (Second Review).

By order of the Commission.
Issued: September 28, 2006.
Marilyn R. Abbott,
Secretary to the Commission.

[FR Doc. E6-16384 Filed 10-3-06; 8:45 am]

BILLING CODE 7020-02-P